DEPARTMENT OF TRANSPORTATION

Federal Transit Administration

Fiscal Year 2015 Innovative Public Transportation Workforce Development Program Project Selections

AGENCY: Federal Transit Administration (FTA), U.S. Department of Transportation (DOT).

ACTION: Innovative Public Transportation Workforce Development Program Announcement of Project Selections.

SUMMARY: The U.S. Department of Transportation's (DOT), Federal Transit Administration (FTA) announces the selection of projects for the Fiscal Year (FY) 2015 Innovative Public Transportation Workforce Development Program (Workforce Development Program). Under the prior authorization, the Workforce Development Program was authorized under 49 U.S.C. 5322. Under the Moving Ahead for Progress in the 21st Century (MAP-21) Act, the program is authorized at 49 U.S.C. 5322(b). These projects are funded with a combination of $4 million of unallocated Section 5314 Federal funds appropriated in FY 2012, and a total of $5.5 million authorized under MAP-21 and appropriated in FYs 2013, 2014, and 2015 for Section 5322. These program dollars will provide financial assistance to promote diverse and innovative workforce development models and programs that specifically target unemployment training programs, outreach to increase minority and female employment, and training for minority business opportunities.

FOR FURTHER INFORMATION CONTACT: FTA's Office of Research, Demonstration and Innovation (TRI) will contact successful applicants regarding next steps in applying for the funds or program-specific information (see Table 1 below). Unsuccessful Workforce Development Program applicants may contact Mackenzie Thiessen, Office of Research Management; at email address mackenzie.thiessen@dot.gov to arrange a proposal debriefing within 30 days of this announcement. Telecommunications Devices for the Deaf (TDD) is available at 1-800-877-8339 (TDD/FIRS).

SUPPLEMENTARY INFORMATION: On October 24, 2014, FTA published a Notice of Funding Availability (NOFA) (79 FR 63659, which can be found at http://www.gpo.gov/fdsys/pkg/FR-2014-10-24/pdf/2014-25310.pdf) announcing the availability of approximately $9.5 million. In response to the Workforce Development Program NOFA, FTA received 50 proposals requesting approximately $27 million in Federal funds. The FTA evaluated project proposals based on each applicant's responsiveness to the program evaluation criteria as detailed in the NOFA. The FTA is funding 19 Workforce Development projects, as shown in Table 1, for a total of $9,481,721. These competitive program funds will support projects at transit and local government agencies, academic institutions, and nationwide that will recruit, train, retain, and educate a high-quality transportation workforce to meet current and future transportation industry needs.

Applicants selected for competitive discretionary funding for the Workforce Development Program should work with FTA's TRI staff identified in the contacts section of this notice to finalize the cooperative agreements in FTA's Transportation Electronic Awards Management System (TEAM) or its successor system, so that Federal funds can be obligated expeditiously.

Cooperative agreements must include only eligible activities applied for in the original project application. The Federal funds must be used consistent with the competitive proposal and for the eligible purposes established in the NOFA and described in FTA Circular 6100.1E, Research, Technical Assistance and Training Program: Application Instructions and Program Management Guidelines. In cases where the allocation amount is less than the applicant's requested amount, applicants should work with TRI staff to reduce scope or scale the project as needed. Applicants are reminded that program requirements such as cost sharing or local match can be found in the NOFA. Under the FY 2015 Workforce Development Program, all projects are required to have at least 50 percent local match. Local match must be consistent with the proposed match identified in the applicant's proposal, identified in the cooperative agreement at the time of obligation, and available at the time of expenditure. The FTA has assigned a discretionary research project identification number to each project (see Table 1 of this notice) for tracking purposes and must be used in the TEAM or successor system, application.

Applicants interested in requesting pre-award authority should contact the program manager listed above. Pre-award authority may be granted through the issuance of a Letter of No Prejudice in accordance with FTA's Pre-award Authority Policy, set forth in the FY 2015 Annual Apportionments, Allocations, and Program Information Notice, published on February, 9, 2015 and available at http://www.gpo.gov/fdsys/pkg/FR-2015-02-09/pdf/2015-02555.pdf.

Post-award reporting requirements include submission of the Federal Financial Report and Milestone Progress reports in TEAM as appropriate (see FTA Circular 6100.1E) and a narrative summary of project activities. The grantees must comply with all applicable Federal statutes, regulations, executive orders, FTA circulars, and other Federal requirements detailed in the FY 2015 Master Agreement in carrying out the project supported by the FTA research grant. The FY 2015 Master Agreement can be found at the following Internet address: http://www.fta.dot.gov/documents/21-Master.pdf.

Each recipient will provide the necessary measurable outcomes and deliverables for Congressional reporting efforts as mandated under MAP-21. This information will also be used to conduct an anticipated program evaluation of the 2015 Workforce Development projects.

The FTA emphasizes that grantees must follow all third-party procurement guidance, as described in FTA Circular 4220.1F, Third Party Contracting Guidance.

Therese W. McMillan,
Acting Administrator.

Table 1—Innovative Public Transportation Workforce Development Program
Project ID | State | Project sponsor | Project description | Amount
D2015-WFD-001 | CA | Los Angeles Trade-Technical College | Institute for Advanced Transportation Technology Training | $750,000
D2015-WFD-002 | CA | Community Career Development, Inc | Moving Employees into Transit Related Opportunities (METRO) program | 331,313
D2015-WFD-003 | CA | Santa Clara Valley Transportation Authority (VTA) | Discover Opportunities—In Transit! (DO IT!) program | 200,000
D2015-WFD-004 | CA | Bay Area Rapid Transit District (BART) | Transit Career Ladders Training (TCLT) Program | 750,000
D2015-WFD-005 | CO | Regional Transportation District (RTD) | Workforce Investment Now! (WIN) Program | 663,256
D2015-WFD-006 | FL | Jacksonville Transportation Authority (JTA) | Back-2-Work Program | 200,000
D2015-WFD-007 | IL | Chicago Transit Authority (CTA) | Second Chance Program | 750,000
D2015-WFD-008 | MA | Massachusetts Department of Transportation | Construction Career Development (MCCD) Program | 750,000
D2015-WFD-009 | MD | International Transportation Learning Center | Rail Car Workforce Program | 750,000
D2015-WFD-12010; D2015-WFD-13010; D2015-WFD-14010; D2015-WFD-15010 | MD | International Transportation Learning Center | Signaling Career Pathways Program. D2015-WFD-12010 ($4,185); D2015-WFD-13010 ($535); D2015-WFD-14010 ($564,517); D2015-WFD-15010 ($4,945) | 574,182
D2015-WFD-011 | MN | Metropolitan Council/Metro Transit | Mass Transit Technician (MTT) Program | 203,210
D2015-WFD-012 | NJ | Jersey City Employment Training Program, Inc. (JCETP) | The Jersey City Employment Training Program, Inc. (JCETP) | 604,896
D2015-WFD-013 | NY | NY Metropolitan Transportation Authority (MTA) | Workforce Investment Now—New York (WIN—NY) program | 739,605
D2015-WFD-014 | NY | Niagara Frontier Transportation Authority | Skilled Laborer Jobs Training Program | 303,000
D2015-WFD-015 | OH | Greater Cleveland Regional Transportation Authority (GCRTA) | Career Pathways Program (CPP) | 407,780
D2015-WFD-016 | OK | Grand Gateway Economic Development Association (EDA) | N2N Automotive University | 399,933
D2015-WFD-017 | TX | Texoma Area Paratransit System, Inc | TAPS University Employment Enrichment Initiative | 427,770
D2015-WFD-018 | WA | Intercity Transit | Village Vans Program | 200,000
D2015-WFD-019 | WA | Workforce Development Council of Snohomish County | Puget Sound Region Ladders to Opportunity Initiative | 476,776
Total |  |  |  | 9,481,721

[FR Doc. 2015-25628 Filed 10-7-15; 8:45 am]

BILLING CODE P